DEPARTMENT OF AGRICULTURE

Animal and Plant Health Inspection Service

[Docket No. APHIS-2013-0094]

Notice of Availability of a Treatment Evaluation Document for Heat Treatment for Asian Longhorned Beetle

AGENCY: Animal and Plant Health Inspection Service, USDA.

ACTION: Notice of availability and request for comments.

SUMMARY: We are advising the public that we have determined that it is necessary to add a treatment schedule for Asian longhorned beetle in the Plant Protection and Quarantine Treatment Manual. Thus, we have prepared a treatment evaluation document that discusses the existing treatment schedule and explains why this change is necessary. We are making this treatment evaluation document available to the public for review and comment.

DATES: We will consider all comments that we receive on or before April 11, 2014.

ADDRESSES: You may submit comments by either of the following methods:

• Federal eRulemaking Portal: Go to http://www.regulations.gov/#!documentDetail;D=APHIS-2013-0094-0001.

• Postal Mail/Commercial Delivery: Send your comment to Docket No. APHIS-2013-0094, Regulatory Analysis and Development, PPD, APHIS, Station 3A-03.8, 4700 River Road Unit 118, Riverdale, MD 20737-1238.

Supporting documents and any comments we receive on this docket may be viewed at http://www.regulations.gov/#!docketDetail;D=APHIS-2013-0094 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Claudia Ferguson, M.S., Regulatory Policy Specialist, Regulations, Permits and Manuals, Regulatory Coordination and Compliance, PPQ, APHIS, 4700 River Road Unit 135, Riverdale, MD 20737-1236; (301) 851-2352.

SUPPLEMENTARY INFORMATION:

Background

The regulations in 7 CFR chapter III are intended, among other things, to prevent the introduction or dissemination of plant pests and noxious weeds into or within the United States. Under the regulations, certain plants, fruits, vegetables, and other articles must be treated before they may be moved into the United States or interstate. The phytosanitary treatments regulations contained in part 305 of 7 CFR chapter III (referred to below as the regulations) set out standards for treatments required in parts 301, 318, and 319 of 7 CFR chapter III for fruits, vegetables, and other articles.

In § 305.2, paragraph (b) states that approved treatment schedules are set out in the Plant Protection and Quarantine (PPQ) Treatment Manual.¹ Section 305.3 sets out a process for adding, revising, or removing treatment schedules in the PPQ Treatment Manual. In that section, paragraph (a) sets out the process for adding, revising, or removing treatment schedules when there is no immediate need to make a change. The circumstances in which an immediate need exists are described in § 305.3(b)(1).

¹ The PPQ Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

Currently, heat treatment schedule T314-c, which is used as a general treatment for various wood pests, is designated as a treatment for regulated articles moved from an Asian longhorned beetle (ALB) quarantined area. Although effective, we have determined that the treatment temperature and duration prescribed by T314-c are greater than what is necessary to eliminate ALB. In accordance with § 305.3(a)(1), we are providing notice that we have determined that treatment schedule T314-a, which provides a heat treatment schedule for ash logs, including firewood, and all hardwood firewood that are moved from emerald ash borer quarantined areas, is also an effective treatment against ALB. Therefore, we have determined that it is necessary to add ALB to heat treatment schedule T314-a.

The reasons for this change are described in a treatment evaluation document (TED) we have prepared to support this action. The TED may be viewed on the Regulations.gov Web site or in our reading room (see ADDRESSES above for a link to Regulations.gov and information on the location and hours of the reading room). You may also request paper copies of the TED by calling or writing to the person listed under FOR FURTHER INFORMATION CONTACT.

After reviewing the comments we receive, we will announce our decision regarding the changes to the PPQ Treatment Manual that are described in the TED in a subsequent notice.

Authority: 7 U.S.C. 7701-7772 and 7781-7786; 21 U.S.C. 136 and 136a; 7 CFR 2.22, 2.80, and 371.3.

Done in Washington, DC, this 3rd day of February 2014.
Kevin Shea,
Administrator, Animal and Plant Health Inspection Service.

[FR Doc. 2014-02758 Filed 2-7-14; 8:45 am]

BILLING CODE 3410-34-P